DEPARTMENT OF ENERGY

Federal Energy Regulatory Commission

Combined Notice of Filings #1

Take notice that the Commission received the following Complaints and Compliance filings in EL Dockets:

Docket Numbers: EL23-24-000.

Applicants: CXA La Paloma, LLC v. California Independent System Operator Corporation.

Description: Complaint of CXA La Paloma, LLC v. California Independent System Operator Corporation.

Filed Date: 1/23/23.

Accession Number: 20230123-5080.

Comment Date: 5 p.m. ET 2/22/23.

Take notice that the Commission received the following electric rate filings:

Docket Numbers: ER22-2719-002.

Applicants: PPL Electric Utilities Corporation, PJM Interconnection, L.L.C.

Description: Tariff Amendment: PPL Electric Utilities Corporation submits tariff filing per 35.17(b): PPL Electric submits Response to Second Request for Information in ER22-2719 to be effective 1/31/2023.

Filed Date: 1/23/23.

Accession Number: 20230123-5091.

Comment Date: 5 p.m. ET 2/13/23.

Docket Numbers: ER23-158-002.

Applicants: Public Service Company of Colorado.

Description: Compliance filing: Final Order_SCC_Attachment B and C to be effective 12/31/9998.

Filed Date: 1/23/23.

Accession Number: 20230123-5097.

Comment Date: 5 p.m. ET 2/13/23.

Docket Numbers: ER23-159-002.

Applicants: Public Service Company of Colorado.

Description: Compliance filing: Final Order_SCC_Joint Op. Agreement to be effective 1/23/2023.

Filed Date: 1/23/23.

Accession Number: 20230123-5095.

Comment Date: 5 p.m. ET 2/13/23.

Docket Numbers: ER23-161-002.

Applicants: Public Service Company of Colorado.

Description: Compliance filing: Final Order_SCC_cost-based services to be effective 1/1/2023.

Filed Date: 1/23/23.

Accession Number: 20230123-5096.

Comment Date: 5 p.m. ET 2/13/23.

Docket Numbers: ER23-162-002.

Applicants: Public Service Company of Colorado.

Description: Compliance filing: Final Order_SCC_Sched. 4 and 9 to be effective 1/23/2023.

Filed Date: 1/23/23.

Accession Number: 20230123-5093.

Comment Date: 5 p.m. ET 2/13/23.

Docket Numbers: ER23-574-001.

Applicants: Oakland Power Company LLC.

Description: Tariff Amendment: Oakland Power Motion for Deferral of Commission Action to be effective 12/31/9998.

Filed Date: 1/23/23.

Accession Number: 20230123-5071.

Comment Date: 5 p.m. ET 2/13/23.

Docket Numbers: ER23-918-000.

Applicants: PJM Interconnection, L.L.C.

Description: § 205(d) Rate Filing: Revisions to the Transmission Constraint Penalty Factor Rules to be effective 3/22/2023.

Filed Date: 1/20/23.

Accession Number: 20230120-5203.

Comment Date: 5 p.m. ET 2/10/23.

Docket Numbers: ER23-919-000.

Applicants: Tampa Electric Company.

Description: § 205(d) Rate Filing: Section 205 Filing—Updating OATT Administrator Contact Information to be effective 1/23/2023.

Filed Date: 1/23/23.

Accession Number: 20230123-5001.

Comment Date: 5 p.m. ET 2/13/23.

Docket Numbers: ER23-920-000.

Applicants: Meadow Lake Solar Park LLC.

Description: Compliance filing: Notice of Non-Material Change in Status and MBR Tariff Revisions to be effective 3/25/2023.

Filed Date: 1/23/23.

Accession Number: 20230123-5067.

Comment Date: 5 p.m. ET 2/13/23.

Docket Numbers: ER23-921-000.

Applicants: Black Mesa Energy, LLC.

Description: Baseline eTariff Filing: Black Mesa Energy, LLC—MBR Application to be effective 3/25/2023.

Filed Date: 1/23/23.

Accession Number: 20230123-5104.

Comment Date: 5 p.m. ET 2/13/23.

Docket Numbers: ER23-922-000.

Applicants: Duke Energy Progress, LLC.

Description: § 205(d) Rate Filing: DEP-Powells Creek A&R ASOA SA No. 365 to be effective 3/27/2023.

Filed Date: 1/23/23.

Accession Number: 20230123-5117.

Comment Date: 5 p.m. ET 2/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2023.
Debbie-Anne A. Reese,
Deputy Secretary.

[FR Doc. 2023-01652 Filed 1-26-23; 8:45 am]

BILLING CODE 6717-01-P